DEPARTMENT OF LABOR

Office of the Secretary

Agency Information Collection Activities; Submission for OMB Review; Comment Request; Records of Tests and of Examinations of Personnel Hoisting Equipment

ACTION: Notice of availability; request for comments.

SUMMARY: The Department of Labor (DOL) is submitting this Mine Safety and Health Administration (MSHA)-sponsored information collection request (ICR) to the Office of Management and Budget (OMB) for review and approval in accordance with the Paperwork Reduction Act of 1995 (PRA). Public comments on the ICR are invited.

DATES: The OMB will consider all written comments that agency receives on or before October 21, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Anthony May by telephone at 202-693-4129 (this is not a toll-free number) or by email at DOL_PRA_PUBLIC@dol.gov.

SUPPLEMENTARY INFORMATION: Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

Section 103(h) of the Federal Mine Safety and Health Act of 1977 (Mine Act), 30 U.S.C. 813(h), authorizes MSHA to collect information necessary to carry out its duty in protecting the safety and health of miners. Further, section 101(a) of the Mine Act, 30 U.S.C. 811, authorizes the Secretary of Labor to develop, promulgate, and revise as may be appropriate, improved mandatory health or safety standards for the protection of life and prevention of injuries in coal or other mines. Under Title 30 of the Code of Federal Regulations (CFR), MSHA has requirements that address hoists and appurtenances, including wire rope, used for hoisting persons. The requirements address both metal and nonmetal surface and underground mines (30 CFR parts 56 and 57); and underground coal and surface work areas of underground coal mines (30 CFR parts 75 and 77). Sections 56/57.19022 and 75/77.1432 requires the diameter of newly installed wire rope to be measured at least once in every third interval of the rope's active length to establish a baseline for subsequent semiannual measurements. A record of the measurements is required to be made and retained until the rope is retired from service. Sections 56/57.19023 and 75/77.1433 require the wire rope to be visually examined at least every fourteen days for visible structural damage, corrosion, and improper lubrication or dressing. If the examination reveals weakening portions of the rope, the weakened portions must be monitored daily for further deterioration until retirement criteria require that the rope be removed from service. The person conducting the examination must certify that the examination was made and the record must be retained for one year. Sections 56/57.19121 requires the person conducting the inspection, test or examination of hoisting equipment certify that these activities have been done. Any unsafe conditions must be noted in a record and dated. All certifications and records must be retained for one year. Section 75.1400-2 requires a record to be made of tests conducted on safety catches. Safety catches are the last means to stop, safely, a falling conveyance in the event of rope or equipment failure. Sections 75.1400-4 and 77.1404 require a record to be made of each daily examination. If any unsafe condition is found during the examination, the person conducting the examination must make a record of the condition. All certifications and records must be retained for one year. Section 77.1906 requires a daily examination of hoists used for shaft sinking. If any unsafe condition is found during the examination, the person conducting the examination must make a record of the condition. All certifications and records must be retained for one year. For additional substantive information about this ICR, see the related notice published in the Federal Register on March 25, 2020 (85 FR 16961).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-MSHA.

Title of Collection: Records of Tests and of Examinations of Personnel Hoisting Equipment.

OMB Control Number: 1219-0034.

Affected Public: Private Sector: Businesses or other for-profits.

Total Estimated Number of Respondents: 225.

Total Estimated Number of Responses: 61,366.

Total Estimated Annual Time Burden: 5,133 hours.

Total Estimated Annual Other Costs Burden: $270,000.

Authority: 44 U.S.C. 3507(a)(1)(D).

Dated: September 15, 2020.
Anthony May,
Management and Program Analyst.

[FR Doc. 2020-20768 Filed 9-18-20; 8:45 am]

BILLING CODE 4510-43-P